DEPARTMENT OF TRANSPORTATION

Federal Railroad Administration

Agency Information Collection Activities

AGENCY: Federal Railroad Administration, DOT.

ACTION: Notice of OMB approvals.

SUMMARY: In compliance with the Paperwork Reduction Act of 1995 (44 U.S.C. 3501 et seq.) and 5 CFR 1320.5(b), this notice announces that new information collections requirements (ICRs) listed below have been approved by the Office of Management and Budget (OMB). These new ICRs pertain to 49 CFR parts 227 and 229. Additionally, FRA hereby announces that other ICRs listed below have been re-approved by the Office of Management and Budget (OMB). These ICRs pertain to parts 207, 209, 210, 214, 215, 217, 218, 223, 228, 232, 233, 234, 235, and 236. The OMB approval numbers, titles, and expiration dates are included herein under SUPPLEMENTARY INFORMATION.

FOR FURTHER INFORMATION CONTACT: Mr. Robert Brogan, Office of Planning and Evaluation Division, RRS-21, Federal Railroad Administration, 1120 Vermont Ave., NW., Mail Stop 25, Washington, DC 20590 (telephone: (202) 493-6292), or Gina Christodoulou, Office of Support Systems, RAD-43, Federal Railroad Administration, 1120 Vermont Ave., NW., Mail Stop 35, Washington, DC 20590 (telephone: (202) 493-6139). (These telephone numbers are not toll-free.)

SUPPLEMENTARY INFORMATION: The Paperwork Reduction Act of 1995 (PRA), Public Law No. 104-13, § 2, 109 Stat. 163 (1995) (codified as revised at 44 U.S.C. 3501-3520), and its implementing regulations, 5 CFR part 1320, require Federal agencies to display OMB control numbers and inform respondents of their legal significance once OMB approval is obtained. The following new FRA information collection was approved in the last two months: OMB No. 2130-0560, Use of Locomotive Horns at Highway Grade Crossings (49 CFR parts 227 and 229) (Amendments to Final Rule). The expiration date for this collection of information is October 31, 2009.

The following information collections were re-approved: (1) OMB No. 2130-0017, U.S. DOT Crossing Inventory Form (Form FRA F 6180.71). The new expiration date for this information collection is August 31, 2009. (2) OMB No. 2130-0506, Identification of Cars Moved in Accordance with Order 13528 (49 CFR part 232). The new expiration date for this information collection is March 31, 2009. (3) OMB No. 2130-0035, Railroad Operating Rules (49 CFR part 217). The new expiration date for this information collection is September 30, 2009. (4) OMB No. 2130-0502, Filing of Dedicated Cars (49 CFR 215). The new expiration date for this information collection is September 30, 2009. (5) OMB No. 2130-0519, Bad Order and Home Shop Card (49 CFR part 215). The new expiration date for this information collection is September 30, 2009. (6) OMB No. 2130-0520, Stenciling Reporting Mark on Freight Cars (49 CFR part 215). The new expiration date for this information collection is September 30, 2009. (7) OMB No. 2130-0523, Rear End Marking Devices (49 CFR part 223). The new expiration date for this information collection is September 30, 2009. (8) OMB No. 2130-0527, Locomotive Certification (Noise Compliance Regulations) (49 CFR part 210). The new expiration date for this information collection is September 30, 2009. (9) OMB No. 2130-0534, Grade Crossing Signal System Safety (49 CFR part 234) (Form FRA F 6180.83). The new expiration date for this information collection is September 30, 2009. (10) OMB No. 2130-0535, Bridge Worker Safety Rules (49 CFR 214). The new expiration date for this information collection is September 30, 2009. (11) OMB No. 2130-0537, Railroad Police Officers (49 CFR part 207). The new expiration date for this information collection is September 30, 2009. (12) OMB No. 2130-0568, FRA Emergency Order No. 24. The new expiration date for this information collection is August 31, 2009. (13) OMB No. 2130-0006, Railroad Signal System Requirements (49 CFR 233/235/236) (Forms FRA F 6180.14 and FRA F 6180.47). The new expiration date for this information collection is August 31, 2009. (14) OMB No. 2130-0516, Remotely Controlled Switch Operations (49 CFR part 218). The new expiration date for this information collection is September 30, 2009. (15) OMB No. 2130-0509, State Safety Participation Regulations and Remedial Actions (49 CFR part 209) (Forms FRA F 6180.33/61/67/96/96A/109/110/111/112). The new expiration date for this information collection is September 30, 2009. (16) OMB No. 2130-0005, Hours of Service Regulations (49 CFR 228). The new expiration date for this information collection is November 30, 2009.

Persons affected by the above referenced information collections are not required to respond to any collection of information unless it displays a currently valid OMB control number. These approvals by the Office of Management and Budget (OMB) certify that FRA has complied with the provisions of the Paperwork Reduction Act of 1995 (Pub. L. 104-13) and with 5 CFR 1320.5(b) by informing the public about OMB's approval of the information collection requirements of the above cited forms and regulations.

Authority: 44 U.S.C. 3501-3520.

Issued in Washington, DC on December 6, 2006.
D.J. Stadtler,
Director, Office of Budget, Federal Railroad Administration.

[FR Doc. E6-21014 Filed 12-11-06; 8:45 am]

BILLING CODE 4910-06-P